DEPARTMENT OF THE INTERIOR

Bureau of Land Management

[LLCAN00000.L18200000.XZ0000]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The RAC will meet Wednesday and Thursday, Feb. 17-18, 2010, at the BLM Surprise Field Office, 602 Cressler Street, Cedarville, Calif. The meeting runs from 1 to 5 p.m. on Feb. 17, and from 8 a.m. to noon on Feb. 18. Time for public comments has been reserved at 4 p.m. on Thursday, Feb. 18.

FOR FURTHER INFORMATION CONTACT: Nancy Haug, BLM Northern California District manager, (530) 221-1743; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics include an update on Sage Steppe Ecosystem Restoration Project work, a status report on alternative energy development proposals, a status report on the Ruby Pipeline proposal, a wild horse and burro program update, an update on American Reinvestment and Recovery Act projects, an activity update for the Black Rock Desert-High Rock Canyon-Emigrant Trails National Conservation Area, and updates from managers of the BLM Alturas, Eagle Lake and Surprise field offices. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: January 12, 2010.
Joseph J. Fontana,
Public Affairs Officer.

[FR Doc. 2010-939 Filed 1-19-10; 8:45 am]

BILLING CODE 4310-40-P